DEPARTMENT OF THE INTERIOR

Bureau of Land Management

[AZA 31044-01]

Public Land Order No. 7664; Withdrawal of National Forest System Land for the Diamond Rim Quartz Crystal Interpretive Area; Arizona.

AGENCY: Bureau of Land Management, Interior.

ACTION: Public Land Order.

SUMMARY: This order withdraws 990 acres of National Forest System land from location and entry under the United States mining laws for 20 years to protect the Diamond Rim Quartz Crystal Interpretive Area.

EFFECTIVE DATE: June 12, 2006.

FOR FURTHER INFORMATION CONTACT: Angela Mogel, BLM Arizona State Office, One North Central Avenue, Suite 800, Phoenix, Arizona 85004-4427, 602-417-9536.

Order

By virtue of the authority vested in the Secretary of the Interior by Section 204 of the Federal Land Policy and Management Act of 1976, 43 U.S.C. 1714 (2000), it is ordered as follows:

1. Subject to valid existing rights, the following described National Forest System land is hereby withdrawn from location and entry under the United States mining laws, 30 U.S.C. Ch. 2 (2000), to protect the Diamond Rim Quartz Crystal Interpretive Area:

Tonto National Forest

Gila and Salt River Meridian

T. 11 N., R. 11 E.,

Sec. 1, SW1/4;

Sec. 12, W1/2 and W1/2E1/2;

Sec. 13, NW1/4NW1/4NE1/4, NE1/4NW1/4, W1/2NW1/4, N1/2SE1/4NW1/4, and N1/2NW1/4SW1/4;

Sec. 14, S1/2S1/2SW1/4NE1/4, SE1/2NE1/4, NE1/4SE1/4, W1/2SE1/4, and N1/2N1/2SE1/4SE1/4.

The area described contains 990 acres in Gila County.

2. This withdrawal will expire 20 years from the effective date of this order unless, as a result of a review conducted before the expiration date pursuant to Section 204(f) of the Federal Land Policy and Management Act of 1976, 43 U.S.C. 1714(f) (2000), the Secretary determines that the withdrawal shall be extended.

Dated: May 18, 2006.
Mark Limbaugh,
Assistant Secretary of the Interior.

[FR Doc. E6-9042 Filed 6-9-06; 8:45 am]

BILLING CODE 3410-11-P